CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. Currently, the Corporation is soliciting comments concerning the Senior Corps Accomplishments Surveys (reference OMB Control Number 3045-0049), the current clearance for which will expire on April 30, 2007. This request for renewal reflects the Corporation's intent to conduct Accomplishment Surveys for its three Senior Corps programs: The Foster Grandparent Program, the Senior Companion Program, and the Retired and Senior Volunteer Program (RSVP).

Copies of the information collection requests can be obtained by contacting the office listed in the addresses section of this notice.

DATES: Written comments must be submitted to the individual and office listed in the ADDRESSES section by November 20, 2006.

ADDRESSES: You may submit comments, identified by the title of the information collection activity, by any of the following methods:

(1) By mail sent to: Corporation for National and Community Service, Office of the CEO; Attention Nathan Dietz, Department of Research and Policy Development; 1201 New York Avenue, NW., Washington, DC, 20525.

(2) By hand delivery or by courier to the Corporation's mailroom at Room 6010 at the mail address given in paragraph (1) above, between 9 a.m. and 4 p.m. Monday through Friday, except Federal holidays.

(3) By fax to: (202) 606-3464, Attention Nathan Dietz, Department of Research and Policy Development.

(4) Electronically through the Corporation's e-mail address system: ndietz@cns.gov.

FOR FURTHER INFORMATION CONTACT: Nathan Dietz, (202) 606-6633, or by e-mail at ndietz@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation seeks to renew clearance for the Accomplishment Surveys for Senior Corps Programs to collect information about Senior Corps volunteer activities and accomplishments, as well as to gather information about the practices used by the organizations that recruit, supervise and manage Senior Corps volunteers.

Type of Review: Renewal.

Agency: Corporation for National and Community Service.

Title: Accomplishment Surveys for Senior Corps Programs.

OMB Number: 3045-0049.

Agency Number: None.

Affected Public: Not-for-profit organizations.

Total Respondents: 3,250.

Frequency: On occasion.

Average Time per Response: 45 minutes.

Estimated Total Burden Hours: 2,437.5 hours.

Total Burden Cost (capital/startup): None.

Total Burden Cost (operating/maintenance): None.

Comments submitted in response to this notice will be summarized and/or included in the request for Office of Management and Budget approval of the information collection request; they will also become a matter of public record.

Dated: September 13, 2006.
Bob Grimm,
Director.

[FR Doc. 06-7944 Filed 9-19-06; 8:45 am]

BILLING CODE 6050-$$-P